Proclamation 9376 of December 2, 2015

International Day of Persons With Disabilities, 2015

By the President of the United States of America

A Proclamation

The United States has long been a leading voice for the rights of persons with disabilities, and we join the international community in expressing our support for them in all they do and in recognizing them as the valuable members of society that they are. This year, as we celebrate the 25th anniversary of the passing of the Americans with Disabilities Act (ADA)—landmark legislation that helps ensure the places that make up our shared national life truly belong to everyone—we also recognize that protecting the rights of those with disabilities is not just an American ideal, but a cornerstone of our work to ensure human rights around the globe. On International Day of Persons with Disabilities, we rededicate ourselves to building a fairer and more accessible world and to upholding the fundamental dignity and respect of all people.

A quarter-century ago, our Nation marked a milestone in the long march toward achieving equal opportunity for all with the passage of the ADA. A result of quiet persistence and perseverance coupled with passionate and vocal advocacy, this Act showed the world our full commitment to the rights of people with disabilities, and in these past 25 years, we have built on the foundation of equality laid by this law. The Affordable Care Act also guarantees people with disabilities a basic but fundamental protection—that they can no longer be denied access to health insurance due to a pre-existing condition. Additionally, my Administration has supported increasing funding for the Individuals with Disabilities Education Act (IDEA) grants, which would boost our efforts to provide every child living with a disability with a quality public education. And this year, the White House hosted a series of events commemorating IDEA's 40th anniversary to highlight the importance of inclusion and of recognizing the talents of all Americans in every aspect of society.

Each day, our founding values of equality and opportunity guide our work to forge a bright future for people with disabilities. Serving to protect these ideals are our brave men and women in uniform who give of themselves for us all, and when they return home with wounds of war, seen or unseen, it is our sacred obligation to ensure they can take full advantage of the freedoms they fought so hard to defend. That is why my Administration has worked to provide our country's veterans who have disabilities with access to timely, quality health care and the tools needed to convert their military skills into careers in civilian life.

As we continue working to expand the promise of America to all our people, we must remember that the fight for disability rights should not stop at our Nation's shores. The United States continues to uphold our global commitment to the international disability community. During my first year in office, the United States signed the Convention on the Rights of Persons with Disabilities, an international declaration, now signed by 160 countries, that recognizes the inherent worth of people with disabilities and urges equal protection and benefits before the law. I am disappointed that the Senate blocked ratification of the Convention, and I continue to call on these elected leaders, all of whom represent Americans with disabilities, to provide their advice and consent to ratification. A pillar of American leadership is our profound respect for the human dignity of all people, and it is imperative that we reach for a day when all of the more than 1 billion people of the world who live with a disability can enjoy the same rights afforded to those living here at home.

Our pursuit of equal rights for those with disabilities is not over. Today, we stand on the shoulders of generations who fought for better laws, demanded better treatment, and who, by being good, decent people and hard workers, proved to the world that having a disability should not force individuals into the margins of society. On this day, let us honor the efforts of those who agitated for the respect and dignity of all by picking up the inextinguishable torch of equality and carrying it forward into a future that recognizes the incredible talents and skills of people with disabilities. Together, we can secure a tomorrow in which all people know no limits but the scope of their dreams.

NOW, THEREFORE, I, BARACK OBAMA, President of the United States of America, by virtue of the authority vested in me by the Constitution and the laws of the United States, do hereby proclaim December 3, 2015, as International Day of Persons with Disabilities. I call on all Americans to observe this day with appropriate ceremonies, activities, and programs.

IN WITNESS WHEREOF, I have hereunto set my hand this second day of December, in the year of our Lord two thousand fifteen, and of the Independence of the United States of America the two hundred and fortieth.

[FR Doc. 2015-30966

Filed 12-4-15; 11:15 am]

Billing code 3295-F6-P